NUCLEAR REGULATORY COMMISSION

[Docket Nos. 70-143-LA; ASLBP No. 22-975-01-LA-BD01]

Nuclear Fuel Services, Inc.; Establishment of Atomic Safety and Licensing Board

Pursuant to the Commission's regulations, see, e.g.,10 CFR 2.104, 2.105, 2.300, 2.309, 2.313, 2.318, and 2.321, and the procedures concerning access to sensitive unclassified non-safeguards information (SUNSI) published in the Federal Register, 87 FR 53507, 53510-11 (2022), notice is hereby given that an Atomic Safety and Licensing Board (Board) is being established to preside over an appeal from the NRC Staff's denial of a request for access to SUNSI in the following proceeding:

NUCLEAR FUEL SERVICES, INC.

(License Amendment Application)

On September 12, 2022, Ms. Park Overall asked that she and Ms. Sandra Higgins Miller be granted access to SUNSI that was included in the application to amend special nuclear materials license number SNM-124 submitted by Nuclear Fuel Services, Inc. See Letter from Ms. Park Overall to NRC Office of the Secretary RE: NRC-2022-97 and All Other #'s Listed Below (Sept. 12, 2022). The NRC Staff denied Ms. Overall's request. See Letter from James B. Downs to Ms. Park Overall (Sept. 21, 2022). Ms. Overall challenges that denial. See Letter from Ms. Park Overall to Hon. E. Roy Hawkens (Sept. 28, 2022).

The Board is comprised of the following Administrative Judges:

G. Paul Bollwerk, III, Chair, Atomic Safety and Licensing Board Panel, U.S. Nuclear Regulatory Commission, Washington, DC 20555-0001

William J. Froehlich, Atomic Safety and Licensing Board Panel, U.S. Nuclear Regulatory Commission, Washington, DC 20555-0001

Dr. Sue H. Abreu, Atomic Safety and Licensing Board Panel, U.S. Nuclear Regulatory Commission, Washington, DC 20555-0001

All correspondence, documents, and other materials shall be filed in accordance with the NRC E-Filing rule, 10 CFR 2.302.

Rockville, Maryland.
Dated: September 30, 2022.
Edward R. Hawkens,
Chief Administrative Judge, Atomic Safety and Licensing Board Panel.

[FR Doc. 2022-21652 Filed 10-4-22; 8:45 am]

BILLING CODE 7590-01-P